DEPARTMENT OF DEFENSE

Office of the Secretary

Meeting of the Defense Department Advisory Committee on Women in the Services (DACOWITS)

AGENCY: Department of Defense.

ACTION: Notice.

SUMMARY: Pursuant to section 10(a), Public Law 92-463, as amended, notice is hereby given of a forthcoming meeting of the Defense Department Advisory Committee on Women in the Services (DACOWITS). The purpose of the Committee meeting is to discuss embedded media, sexual assault procedures, and retention. The meeting is open to the public, subject to the availability of space.

Interested persons may submit a written statement for consideration by the Committee and make an oral presentation of such. Persons desiring to make an oral presentation or submit a written statement to the Committee must notify the point of contact listed below no later than 5 p.m., May 17, 2004. Oral presentations by members of the public will be permitted only on Tuesday, May 25, 2004, from 3:30 p.m. to 3:45 p.m. before the full Committee. Presentations will be limited to two minutes. Number of oral presentations to be made will depend on the number of requests received from members of the public. Each person desiring to make an oral presentation must provide the point of contact listed below with one (1) copy of the presentation by 5 p.m., May 17, 2004 and bring 35 copies of any material that is intended for distribution at the meeting. Persons submitting a written statement must submit 35 copies of the statement to the DACOWITS staff by 5 p.m. on May 17, 2004.

DATES: May 24-25, 2004, 8:30 a.m.-5:30 p.m.

Location: Doubletree Hotel Crystal City National Airport, 300 Army Navy Drive, Arlington, VA 22202.

FOR FURTHER INFORMATION CONTACT: MSgt Gerald T. Posey, USAF, DACOWITS, 4000 Defense Pentagon, Room 2C548A, Washington, DC 20301-4000. Telephone (703) 697-2122. Fax (703) 614-6233.

SUPPLEMENTARY INFORMATION: Meeting agenda.

Monday, May 24, 2004, 8:30 a.m.-5:30 p.m.

Welcome & Administrative Remarks

Embedded Media

National Military Family Association Study on Families and Deployment

Services Sexual Assault Procedures

Tuesday, May 25, 2004, 8:30 a.m.-4:30 p.m.

Administrative Remarks

OSD Health Affairs Civilian and Military Care Centers Study

Navy Surface Warfare Officer Briefing

Services Brief on Pregnancy Policies

Reserve Survey Results

Service Senior Equal Opportunity Advisor Panel

Public Forum (3:30-3:45 p.m.)

Note: Exact order may vary.

Dated: April 28, 2004.
L.M. Bynum,
Alternate OSD Federal Register Liaison Officer, Department of Defense.

[FR Doc. 04-10264 Filed 5-5-04; 8:45 am]

BILLING CODE 5001-06-M